DEPARTMENT OF AGRICULTURE

Submission for OMB Review; Comment Request

June 1, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Request for Approval to Sell Capital Assets.

OMB Control Number: 0572-0020.

Summary of Collection: The Rural Utilities Service (RUS) is a credit agency of the U.S. Department of Agriculture (USDA). It makes mortgage loans and loan guarantees to finance electric, telecommunications, and water and waste facilities in rural areas. In addition to providing loans and loan guarantees, one of RUS' main objectives is to safeguard loan security until the loan is repaid. Accordingly, RUS manages loan programs in accordance with the Rural Electrification Act of 1936, 7 U.S.C. 901 et seq., as amended, (RE ACT) and as prescribed by Office of Management and Budget (OMB) Circular A-129, Policies for Federal Credit Programs and Non-Tax Receivables, which states that agencies must, based on a review of a loan application, determine that an applicant complies with statutory, regulatory, and administrative eligibility requirements for loan assistance.

Need and Use of the Information: RUS borrower will use form 369, Request for Approval to sell capital assets, to seek agency permission to sell some of its assets. The form is used to collect detailed information regarding the proposed sale of a portion of the borrower's systems. RUS will collect information to determine whether or not the agency should approve a sale and also to keep track of what property exists to secure the loan. If the information in Form 369 is not collected when capital assets are sold, the capital assets securing the Government's loans could be liquidated and the Government's security either eliminated entirely or diluted to an undesirable level.

Description of Respondents: Not-for-profit institutions; Business or other for-profit.

Number of Respondents: 5.

Frequency of Responses: Recordkeeping; Reporting: On occasion.

Total Burden Hours: 15.

Rural Utility Service

Title: 7 CFR part 1755, Telecommunications Standards and Specifications.

OMB Control Number: 0572-0132.

Summary of Collection: 7 CFR part 1755 establishes Agency policy that materials and equipment purchased by RUS telecommunications borrowers or accepted as contractor-furnished material must conform to RUS standards and specifications where they have been established and, if included in RUS IP 344-02, “List of Materials Acceptable for Use on Telecommunications System of RUS Borrowers”, must be selected from that list or must have received technical acceptance from RUS. To protect the security of loans it makes and to ensure that the telecommunications services provided to rural Americans are comparable to those offered in urban and suburban areas, RUS establishes the minimum acceptable performance criteria for materials and equipment to be employed on telecommunications system financed by RUS. Manufacturers wishing to sell their products to RUS borrowers, request RUS' consideration for acceptance of their products and submit data demonstrating their products' compliance with RUS specification.

Need and Use of the Information: RUS will evaluate the data to determine that the quality of the products is acceptable and that their use will not jeopardize loan security. The information is closely reviewed to be certain that test data, product dimensions and product material compositions fully comply with RUS technical standards and specifications that have been established for the particular product.

Description of Respondents: Business or other for-profit; Not-for-profit institutions.

Number of Respondents: 50.

Frequency of Responses: Reporting: On occasion.

Total Burden Hours: 1,400.

Rural Utility Service

Title: Telecommunications Field Trials.

OMB Control Number: 0572-0133.

Summary of Collection: Title 7 CFR part 1755.3 prescribes the conditions and provision of a field trial. Field trials are contractual obligations that a manufacturer and Rural Utility Service (RUS) telecommunications borrower enter into. They consist of limited field installation of a qualifying product in closely monitored situations designed to determine, to RUS' satisfaction, the products effectiveness under actual field conditions. RUS will use field trials as a means for determining the operational effectiveness of a new or revised product where such experience does not already exist. Field trial process allows: Manufacturers a means of immediate access to the RUS borrower market, RUS borrowers opportunity to immediately utilize advance products, and provides for RUS a means to safely obtain necessary information on technically advanced products which will address the products suitability for use in the harsh environment of rural America.

Need and Use of the Information: RUS will use various forms to enter into contractual obligations, to establish an agreement by RUS, the manufacturer and a borrower, or identify the product(s) that are under field trial. Telecommunication borrowers participate in field trials do so on a voluntary basis. The information is closely reviewed to determine that the products comply with the established RUS standards and specifications and that the products are otherwise acceptable for use on rural telecommunications systems. Without this information, RUS has no means of determining the acceptability of advanced technology in a manner that is timely enough for RUS borrowers to take advantage of the improved benefits and promise that such products may provide for rural America.

Description of Respondents: Business or other for-profit; Not-for-profit institutions.

Number of Respondents: 3.

Frequency of Responses: Reporting: On occasion.

Total Burden Hours: 54.

Charlene Parker,
Departmental Information Collection Clearance Officer.

[FR Doc. E6-8786 Filed 6-6-06; 8:45 am]

BILLING CODE 3410-15-P